ENVIRONMENTAL PROTECTION AGENCY

[EPA-HQ-OPP-2021-0007; FRL-10019-60]

Benzene, 1-(1,1-dimethylethyl)-4-ethenyl-, polymer with ethenylbenzene and 2-methyl-1,3-butadiene, sulfonated (Referred to as BIAXAM Polymer); Receipt of Applications for Emergency Exemptions, Solicitation of Public Comment

AGENCY: Environmental Protection Agency (EPA).

ACTION: Notice.

SUMMARY: EPA has received public health exemption requests from the Utah Department of Agriculture and Food (UDAF) and the Minnesota Department of Agriculture (MDA) to use the pesticide benzene, 1-(1,1-dimethylethyl)-4-ethenyl-, polymer with ethenylbenzene and 2-methyl-1,3-butadiene, sulfonated (referred to as BIAXAM Polymer) (CAS No. 1637665-77-0) to treat nonporous, non-food-contact surfaces associated with the interior of aircraft and airports to control the new novel Severe Acute Respiratory Syndrome Coronavirus (SARS-CoV-2). The applicants propose the use of a new chemical which has not been registered as a pesticide by EPA. EPA is soliciting public comment before making the decision whether or not to grant the exemptions.

DATES: Comments must be received on or before February 24, 2021.

ADDRESSES: The docket for this action, identified by docket identification (ID) number EPA-HQ-OPP-2021-0007, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805.

Due to the public health concerns related to COVID-19, the EPA Docket Center (EPA/DC) and Reading Room is closed to visitors with limited exceptions. The staff continues to provide remote customer service via email, phone, and webform. For the latest status information on EPA/DC services and docket access, visit https://www.epa.gov/dockets.

Submit your comments, identified by docket ID number EPA-HQ-OPP-2021-0007, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets. Additional instructions on commenting or visiting the docket, along with more information about dockets generally, is available at http://www.epa.gov/dockets.

FOR FURTHER INFORMATION CONTACT: Marietta Echeverria, Registration Division (7505P), Office of Pesticide Programs, Environmental Protection Agency, 1200 Pennsylvania Ave. NW, Washington, DC 20460-0001; main telephone number: (703) 305-7090; email address: RDFRNotices@epa.gov.

SUPPLEMENTARY INFORMATION:

I. General Information

A. Does this action apply to me?

You may be potentially affected by this action if you are a provider of services related to aircraft and airports, or pesticide manufacturer. The following list of North American Industrial Classification System (NAICS) codes is not intended to be exhaustive, but rather provides a guide to help readers determine whether this document applies to them. Other types of entities not listed could also be affected. Potentially affected entities may include:

• Air transportation (NAICS code 481).

• Support activities for air transportation (NAICS code 4881).

• Travel arrangement and reservation service (aircraft) (NAICS code 5615).

• Janitorial services (aircraft and airports) (NAICS code 56172).

• Airline food services contractors (NAICS code 722310).

• Pesticide manufacturer (NAICS code 32532).

B. What should I consider as I prepare my comments for EPA?

1. Submitting CBI. Do not submit this information to EPA through www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticide(s) discussed in this document, compared to the general population.

II. What action is the Agency taking?

Under section 18 of the Federal Insecticide, Fungicide, and Rodenticide Act (FIFRA) (7 U.S.C. 136p), at the discretion of the EPA Administrator, a Federal or State agency may be exempted from any provision of FIFRA if the EPA Administrator determines that emergency conditions exist which require the exemption. The UDAF and the MDA have requested the EPA Administrator to issue public health exemptions for the use of benzene, 1-(1,1-dimethylethyl)-4-ethenyl-, polymer with ethenylbenzene and 2-methyl-1,3-butadiene, sulfonated (referred to as BIAXAM Polymer) to treat nonporous surfaces associated with the interior of aircraft and airports to control SARS-CoV-2. Information in accordance with 40 CFR part 166 was submitted as part of these requests.

As part of these requests, the applicants assert that SARS-CoV-2, the virus that causes COVID-19, presents a significant public health risk, particularly to airline passengers confined in a small space for an extended time period. Although contact liquid and spray disinfectants to control SARS-CoV-2 are available, the applicants state that there are no products available that provide ongoing residual protection against the virus. The applicants state that the requested product, a peel and stick film with BIAXAM polymer coating (BIAXAM Film), adheres to surfaces and kills SARS-CoV-2 when the virus contacts the surface, providing residual protection on surfaces to people who later come into contact. The applicants believe that the product will provide an essential tool to facilitate safe air travel by protecting against exposure to SARS-CoV-2 in airport terminals and aircraft.

The Applicants propose to apply up to 70,000 square feet of BIAXAM film in Utah, and up to 74,000 square feet in Minnesota, to interior nonporous, non-food-contact surfaces in airport facilities and aircraft owned or controlled by Delta Air Lines, Inc., within the states of Utah and Minnesota.

This notice does not constitute a decision by EPA on the applications themselves. The regulations governing FIFRA section 18 require publication of a notice of receipt of an application for a public health exemption proposing use of a new chemical (i.e., an active ingredient) which has not been registered as a pesticide by EPA. This notice provides an opportunity for public comment on the applications. The Agency will review and consider all comments received during the comment period in determining whether to issue the public health exemptions requested by the UDAF and the MDA.

Authority: 7 U.S.C. 136 et seq.

Dated: January 27, 2021.
Marietta Echeverria,
Acting Director, Registration Division, Office of Pesticide Programs.

[FR Doc. 2021-02662 Filed 2-8-21; 8:45 am]

BILLING CODE 6560-50-P